DEPARTMENT OF COMMERCE

National Institute of Standards and Technology

Information Collection Activities; Submission to the Office of Management and Budget (OMB) for Review and Approval; Comment Request; Baldrige Performance Excellence Program Team Leader Consensus and Site Visit Information Collections

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 22, 2022, during a 60-day comment period. This notice allows for an additional 30 days for public comments.

Agency: National Institute of Standards and Technology (NIST), Commerce.

Title: Baldrige Performance Excellent Program (BPEP) Team Leader Consensus and Team Leader Site Visit Information Collections.

OMB Control Number: 0693-0079.

Form Number(s): None.

Type of Request: Extension of a current information collection.

Number of Respondents: Examiner Performance Assessment—30 per year; Team Leader Performance Assessment—300 per year.

Average Hours per Response: Examiner Performance Assessment—20 minutes; Team Leader Performance Assessment—5 minutes.

Burden Hours: Examiner Performance Assessment—10 hours; Team Leader Performance Assessment—25 hours.

Needs and Uses: The purpose of the information is to help staff collect data on the skills of the examiners, including alumni examiners, in order to best manage training and selection. Because the examiner selection is so competitive, examiners need to demonstrate competencies such as understanding the Baldrige Criteria, team skills, and writing skills. The program also needs to collect peer-based information to understand an examiner's skill level in order to make decisions on whether the examiner should be elevated to “senior examiner” and therefore team leader. The blinded data will be shared with the team leader for improvement purposes, and for future assignments.

Affected Public: Individual or Households.

Frequency: Annually.

Respondent's Obligation: Voluntary.

This information collection request may be viewed at reginfo.gov. Follow the instructions to view Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2022-26032 Filed 11-28-22; 8:45 am]

BILLING CODE 3510-13-P